DEPARTMENT OF JUSTICE

Notice of Lodging of Consent Decree Under the Clean Air Act and the Emergency Planning & Community Right-To-Know Act

Notice is hereby given that on September 23, 2009, a proposed Stipulation of Settlement and Judgment in United States v. Midwest Renewable Energy, LLC, Civil Action No. 8:09CV337, was lodged with the United States District Court for the District of Nebraska.

In this action, the United States sought an injunction ordering the defendant to comply with Sections 112(r) and 113(b) of the Clean Air Act, 42 U.S.C. 7412(r) and 7413(b), and Section 325(c) of the Emergency Planning and Community Right-to-Know Act (“EPCRA”), 42 U.S.C. 11025(c), and the regulations promulgated thereunder. The United States also sought civil penalties for the past violations of these statutes and regulations, arising out of Midwest Renewable Energy's operations at an ethanol plant it owns and operates Sutherland, Nebraska. Midwest Renewable Energy (“MRE”) began production of ethanol at the facility in September 2004. In the stipulation, MRE certifies that it has remedied each of the alleged violations in the complaint and agrees to pay a civil penalty of $10,000.

For thirty (30) days after the date of this publication, the Department of Justice will receive comments relating to the Stipulation of Settlement and Judgment. Comments should be addressed to the Assistant Attorney General, Environment and Natural Resources Division, and either e-mailed to pubcomment-ees.enrd@usdoj.gov or mailed to P.O. Box 7611, U.S. Department of Justice, Washington, DC 20044-7611. In either case, the comments should refer to United States v. Midwest Renewable Energy, LLC, Civil Action No. 8:09CV337, D.J. Ref. No. 90-5-2-1-09275.

The stipulation may be examined at the Office of the United States Attorney, District of Nebraska, 1620 Dodge Street, Suite 1400, Omaha, Nebraska 68102. During the comment period, the Stipulation of Settlement and Judgment may be examined on the following Department of Justice Web site: http://www.usdoj.gov/enrd/Consent_Decrees.html. A copy of the Stipulation of Settlement and Judgment may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $38.00 (25 cents per page reproduction cost) payable to the United States Treasury or, if by e-mail or fax, forward a check in that amount to the Consent Decree Library at the stated address.

Maureen Katz,
Assistant Chief, Environmental Enforcement Section, Environment and Natural Resources Division.

[FR Doc. E9-23747 Filed 10-1-09; 8:45 am]

BILLING CODE 4410-15-P